DEPARTMENT OF AGRICULTURE

Animal and Plant Health Inspection Service

[Docket No. 99-084-2]

Public Meeting; Center for Veterinary Biologics

AGENCY: Animal and Plant Health Inspection Service, USDA.

ACTION: Notice of public meeting.

SUMMARY: This is the second notice to producers of veterinary biological products, product users, and other interested persons that we are holding our ninth public meeting to discuss regulatory and policy issues related to the manufacture, distribution, and use of veterinary biological products. This notice includes information on the agenda, as well as on the place, dates, and times of the meeting. It also indicates a contact person for obtaining registration forms, lodging information, and copies of the agenda.

DATES: The public meeting will be held on Monday and Tuesday, April 3 and 4, 2000, from 8 a.m. to 5 p.m. each day.

ADDRESSES: The public meeting will be held in the Scheman Building at the Iowa State Center, Iowa State University, Ames, IA.

FOR FURTHER INFORMATION CONTACT: Ms. Judy Denato, Center for Veterinary Biologics, Veterinary Services, APHIS, 1800 Dayton Avenue, P.O. Box 844, Ames, IA 50010; telephone (515) 663-7838, fax (515) 663-7673; or e-mail: judith.e.denato@usda.gov.

SUPPLEMENTARY INFORMATION: The Animal and Plant Health Inspection Service (APHIS) has previously announced that it is scheduling the ninth public meeting on veterinary biologics in Ames, IA, on April 3 and 4, 2000 (see 64 FR 61058-61059, Docket No. 99-084-1). In that notice, APHIS requested that interested persons submit suggestions for agenda topics. Based on the submissions received and on other considerations, the agenda for the ninth public meeting includes, but is not limited to, the following:

—State of the Center for Veterinary Biologics

—Results of community networking sessions, scenarios, and future strategies

—Regulation approval process/Federal preemption and the Virus-Serum-Toxin Act

—International harmonization and trade issues, including international cooperation on harmonization of technical requirements for registration of veterinary medicinal products (VICH)

—Animal use in testing

—Labeling issues, including concerns with imported products, species without a label claim, duration of immunity, safety, and maternal antibody interference with vaccination

—Updates on current topics of interest

During the “open discussion” portion of the meeting, attendees will have the opportunity to present their views on any matter concerning the APHIS veterinary biologics program. Comments may be either impromptu or prepared. Persons wanting to make a prepared statement should indicate their intention to do so at the time of registration by indicating the subject of their remarks and the approximate amount of time they would like to speak. APHIS welcomes and encourages the presentation of comments at the meeting.

Registration forms, lodging information, and copies of the agenda for the ninth public meeting may be obtained from the person listed under FOR FURTHER INFORMATION CONTACT. This information is also accessible on the world wide web at the following address: http://www.aphis.usda.gov/vs/cvb. The registration deadline is March 13, 2000. A block of hotel rooms has been set aside for this meeting until this date. Early reservation of rooms is strongly encouraged.

Done in Washington, DC, this 7th day of March 2000.
Thomas E. Walton,
Acting Administrator, Animal and Plant Health Inspection Service.

[FR Doc. 00-6070 Filed 3-10-00; 8:45 am]

BILLING CODE 3410-34-U